DEPARTMENT OF COMMERCE

International Trade Administration

[C-122-815]

Pure Magnesium and Alloy Magnesium from Canada: Final Results of Countervailing Duty Administrative Reviews

AGENCY: Import Administration, International Trade Administration, Department of Commerce.

ACTION: Notice of final results of countervailing duty administrative reviews.

SUMMARY: On May 12, 2003, the Department of Commerce published in the Federal Register the preliminary results of the administrative reviews of the countervailing duty orders on pure magnesium and alloy magnesium from Canada for the period January 1, 2001 through December 31, 2001. We gave interested parties an opportunity to comment on the preliminary results.

Our analysis of the comments received on the preliminary results did not lead to any changes of the net subsidy rate. Therefore, the final results do not differ from the preliminary results. The final net subsidy rate for the reviewed company is listed below in the section entitled “Final Results of Reviews.”

EFFECTIVE DATE: September 15, 2003.

FOR FURTHER INFORMATION CONTACT: Melanie Brown, AD/CVD Enforcement, Office 1, Group 1, Import Administration, U.S. Department of Commerce, 14th Street and Constitution Avenue, N.W., Washington, D.C. 20230; telephone (202) 482-4987.

SUPPLEMENTARY INFORMATION:

Background

On May 12, 2003, the Department of Commerce (“the Department”) published the preliminary results of these administrative reviews (see Pure Magnesium and Alloy Magnesium From Canada: Preliminary Results of Countervailing Duty Administrative Reviews, 68 FR 25339 (May 12, 2003) (“Preliminary Results”). The respondent, Norsk Hydro Canada, Inc. (“NHCI”), submitted a case brief on June 11, 2003. On June 16, 2003, U.S. Magnesium, LLC., (“the petitioner”) filed a rebuttal brief.

Scope of the Reviews

The products covered by these reviews are shipments of pure and alloy magnesium from Canada. Pure magnesium contains at least 99.8 percent magnesium by weight and is sold in various slab and ingot forms and sizes. Magnesium alloys contain less than 99.8 percent magnesium by weight with magnesium being the largest metallic element in the alloy by weight, and are sold in various ingot and billet forms and sizes.

The pure and alloy magnesium subject to review is currently classifiable under items 8104.11.0000 and 8104.19.0000, respectively, of the Harmonized Tariff Schedule of the United States (“HTSUS”). Although the HTSUS subheadings are provided for convenience and customs purposes, the written descriptions of the merchandise subject to the orders are dispositive.

Secondary and granular magnesium are not included in the scope of these orders. Our reasons for excluding granular magnesium are summarized in Preliminary Determination of Sales at Less Than Fair Value: Pure and Alloy Magnesium From Canada, 57 FR 6094 (February 20, 1992).

Period of Review

The period of review for which we are measuring subsidies is from January 1, 2001 through December 31, 2001.

Analysis of Comments Received

All issues raised in the case and rebuttal briefs by parties to these administrative reviews are addressed in the September 9, 2003, Issues and Decision Memorandum for the Final Results of the Tenth Countervailing Duty Administrative Reviews of Pure and Alloy Magnesium from Canada (“Decision Memorandum”) from Jeffrey May, Deputy Assistant Secretary, Import Administration, to James J. Jochum, Assistant Secretary for Import Administration, which is hereby adopted by this notice. Attached to this notice as Appendix I is a list of the issues which parties have raised and to which we have responded in the Decision Memorandum. Parties can find a complete discussion of this issue raised in these reviews and the corresponding recommendations in this public memorandum which is on file in the Central Records Unit, Room B-099 of the Department. In addition, a complete version of the Decision Memorandum can be accessed directly on the Internet at http://www.ia.ita.doc.gov/frn/index.html. The paper copy and electronic version of the Decision Memorandum are identical in content.

Changes Since the Preliminary Results

Based on our analysis of the record and comments received, we have made no changes to the preliminary results net subsidy rate.

Final Results of Reviews

In accordance with 19 CFR 351.221(b)(4)(i), we calculated an individual subsidy rate for each producer/exporter subject to these reviews. For the period January 1, 2001 through December 31, 2001, we determine the net subsidy rate for the reviewed company to be as follows:

Net Subsidy Rate
Manufacturer/Exporter | Percent
Norsk Hydro Canada, Inc. | 1.68

Assessment Rates

We will instruct the U.S. Bureau of Customs and Border Protection (“BCBP”) to assess countervailing duties as indicated above. As requested by NHCI, pursuant to 19 U.S.C. § 1516a(g)(5)(c)(i), the Department will not order the liquidation of entries of pure magnesium from Canada exported by NHCI on or after August 1, 2000, pending final disposition of the NAFTA panel review of this case. Liquidation will occur at the rates described in these final results of review, if appropriate, following the final judgment in the NAFTA panel dispute.

Cash Deposit Instructions

The Department will instruct the BCBP to collect cash deposits of estimated countervailing duties in the percentage detailed above of the f.o.b. invoice value on all shipments of the subject merchandise from NHCI, entered, or withdrawn from warehouse, for consumption on or after the date of publication of the final results of these administrative reviews.

We will instruct BCBP to continue to collect cash deposits for non-reviewed companies at the most recent company-specific or country-wide rate applicable to the company (except Timminco Limited, which was excluded from the orders in the original investigations). Accordingly, the cash deposit rate that will be applied to non-reviewed companies covered by these orders is that established in Pure and Alloy Magnesium From Canada: Final Results of the Second (1993) Countervailing Duty Administrative Reviews, 62 FR 48607 (September 16, 1997) or the company-specific rate published in the most recent final results of an administrative review in which a company participated. These rates shall apply to all non-reviewed companies until a review of a company assigned these rates is requested.

This notice serves as a reminder to parties subject to administrative protective order (“APO”) of their responsibility concerning the disposition of proprietary information disclosed under APO in accordance with 19 CFR 351.305(a)(3). Timely written notification of return/destruction of APO materials or conversion to judicial protective order is hereby requested. Failure to comply with the regulations and the terms of an APO is a sanctionable violation.

These administrative reviews and notice are in accordance with section 751(a)(1) of the Act.

Dated: September 9, 2003.
Joseph A. Spetrini,
Acting Assistant Secretary for Import Administration.

APPENDIX I

List of Comments and Issues in the Decision Memorandum

Comment 1: Adjusting Current Assessment Rates to Compensate for Over-assessment on Prior Entries

[FR Doc. 03-23459 Filed 9-12-03; 8:45 am]

BILLING CODE 3510-DS-S